DEPARTMENT OF THE TREASURY

Office of Foreign Assets Control

Unblocking of Specially Designated Nationals and Blocked Persons Pursuant to Executive Order 13469

AGENCY: Office of Foreign Assets Control, Treasury.

ACTION: Notice.

SUMMARY: The Treasury Department's Office of Foreign Assets Control (“OFAC”) is publishing the name of one individual and one entity whose property and interests in property have been unblocked pursuant to Executive Order 13469 of July 25, 2008, “Blocking Property of Additional Persons Undermining Democratic Processes or Institutions in Zimbabwe.”

DATES: The unblocking and removal from the list of Specially Designated Nationals and Blocked Persons (“SDN List”) of the individual and entity identified in this notice, pursuant to Executive Order 13469 of July 25, 2008, is effective April 17, 2014.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On March 6, 2003, the President, invoking the authority of, inter alia, the International Emergency Economic Powers Act (50 U.S.C. 1701-06) (“IEEPA”) issued Executive Order 13288 (68 FR 11457, March 10, 2003). In Executive Order 13288, the President declared a national emergency to deal with the threat posed by the actions and policies of certain members of the Government of Zimbabwe and other persons to undermine Zimbabwe's democratic processes or institutions, contributing to the deliberate breakdown in the rule of law in Zimbabwe, to politically motivated violence and intimidation in that country, and to political and economic instability in the southern African region. The Annex to Executive Order 13288 included 77 individuals. Executive Order 13288 also authorized the Secretary of the Treasury, in consultation with the Secretary of State, to designate additional persons determined to meet the criteria set forth in Executive Order 13288.

On November 22, 2005, in order to take additional steps with respect to the continued actions and policies of certain persons who undermine Zimbabwe's democratic processes and with respect to the national emergency described and declared in Executive Order 13288, the President, invoking the authority of, inter alia, IEEPA, issued Executive Order 13391 (70 FR 71201, November 25, 2005). Executive Order 13391 amends Executive Order 13288 and provides that the Annex to Executive Order 13288 is replaced and superseded in its entirety by the Annex to Executive Order 13391, containing the names of 128 individuals and 33 entities. Executive Order 13288, as amended by Executive Order 13391, authorizes the Secretary of the Treasury, in consultation with the Secretary of State, to block the property and interests in property of additional categories of persons beyond the category set forth in Executive Order 13288 prior to its amendment.

On July 25, 2008, the President, invoking the authority of, inter alia, IEEPA, issued Executive Order 13469 “Blocking Property of Additional Persons Undermining Democratic Processes or Institutions in Zimbabwe” (the “Order”). In the Order, the President took additional steps with respect to the national emergency declared in Executive Order 13288 and relied upon for additional steps taken in Executive Order 13391 in order to address the continued political repression and the undermining of democratic processes and institutions in Zimbabwe. The Order authorized the Secretary of the Treasury, in consultation with the Secretary of State, to block the property and interests in property of persons determined to have engaged in actions or policies to undermine democratic processes or institutions in Zimbabwe, to commit acts of violence and other human rights abuses against political opponents, and to engage in public corruption.

On April 17, 2014, the Director of OFAC determined, pursuant to Section 5 of the Order, that circumstances no longer warrant the inclusion of Muller Rautenbach and Ridgepoint Overseas Developments Limited on the SDN List and that their property and interests in property are, therefore, no longer blocked pursuant to section 1(a) of the Order and, accordingly, removed their names from the SDN List.

Individual

1. RAUTENBACH, Muller (a.k.a. RAUTENBACH, Billy; a.k.a. RAUTENBACH, Muller Conrad); DOB 11 Nov 1950; alt. DOB 23 Sep 1959; citizen Zimbabwe; Passport ZE26547 (Zimbabwe) (individual) [ZIMBABWE]

Entity

1. RIDGEPOINT OVERSEAS DEVELOPMENTS LIMITED (a.k.a. RIDGEPOINT OVERSEAS DEVELOPMENTS LTD), C/O: Mossack Fonseca & Co. BVI Ltd, Akara Building, 24 DeCastro St, Road Town, Tortola, Virgin Islands, British; P.O. Box 3136, Road Town, Tortola, Virgin Islands, British [ZIMBABWE]

Dated: April 17, 2014.
Barbara C. Hammerle,
Acting Director, Office of Foreign Assets Control.

[FR Doc. 2014-10441 Filed 5-6-14; 8:45 am]

BILLING CODE 4811-AL-P